DEPARTMENT OF JUSTICE

Notice of Lodging of Proposed Consent Decree Under the Clean Air Act

On May 12 2017, the Department of Justice lodged a proposed Consent Decree with the United States District Court for the District of Nevada in the lawsuit entitled United States v. Nevada Cement Company, Inc., Civil Action No. 17-302.

The Consent Decree resolves civil penalty and injunctive relief claims under Sections 113(b) and 167 of the Clean Air Act against the Nevada Cement Company (“NCC”). The settlement addresses six separate violations of the Prevention of Significant Deterioration (PSD) provisions of the Act in which the Complaint alleges the company upgraded five major parts of the cement plant and changed its manner of operations, without installing any pollution controls.

The proposed Decree, if approved by the Court, would require NCC to achieve substantial reductions of nitrogen oxides (“NOX”), set a sulfur dioxide limit and perform two mitigation projects at its cement manufacturing plant located in Fernley, Nevada. To reduce NOX emissions, the proposed Decree would require NCC to install a new stack on one kiln, modern pollution controls and monitoring on both kilns, optimize the operation of both kilns and set the final NOX emission limit per kiln after extensive testing and optimized operations. The mitigation projects are to address prior NOX emissions and involve the change out of older diesel engines.

NCC has also agreed to pay a civil penalty of $550,000.

The publication of this notice opens a period for public comment on the Consent Decree. Comments should be addressed to the Assistant Attorney General, Environment and Natural Resources Division, and should refer to United States v. Nevada Cement Company, Inc., D.J. Ref. No. 90-5-2-1-10458. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $18.00 (25 cents per page reproduction cost) payable to the United States Treasury.

Henry S. Friedman,
Assistant Section Chief, Environmental Enforcement Section, Environment and Natural Resources Division.

[FR Doc. 2017-10014 Filed 5-17-17; 8:45 am]

BILLING CODE 4410-15-P